DEPARTMENT OF TRANSPORTATION

Coast Guard

33 CFR Parts 100 and 165

[USCG-2000-8541]

Safety Zones, Security Zones, and Special Local Regulations

AGENCY: Coast Guard, DOT.

ACTION: Notice of temporary rules issued.

SUMMARY: This document provides required notice of substantive rules adopted by the Coast Guard and temporarily effective between July 1, 2000 and September 30, 2000 which were not published in the Federal Register. This notice also contains 9 temporary final rules issued during the period of April 1, 2000, thru June 30, 2000, that were not included in the docket USCG 2000-7757. This quarterly notice lists temporary local regulations, security zones, and safety zones of limited duration and for which timely publication in the Federal Register was not possible.

DATES: This notice lists temporary Coast Guard regulations that became effective and were terminated between April 1, 2000, and September 30, 2000.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice, contact Lieutenant Bruce Walker, Office of Regulations and Administrative Law, telephone (202) 267-6233. For questions on viewing, or on submitting material to the docket, contact Dorothy Beard, Chief, Dockets, Department of Transportation (202) 866-9329.

SUPPLEMENTARY INFORMATION: District Commanders and Captains of the Port (COTP) must be immediately responsive to the safety needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety of participants and spectators at regattas and other marine events. Timely publication of these regulations in the Federal Register is often precluded when a regulation responds to an emergency, or when an event occurs without sufficient advance notice. However, the affected public is informed of these regulations through Local Notices to Mariners, press releases, and other means. Moreover, actual notification is provided by Coast Guard patrol vessels enforcing the restrictions imposed by the regulation. Because mariners are notified by Coast Guard officials on-scene prior to enforcement action, Federal Register notice is not required to place the special local regulation, security zone, or safety zone in effect. However, the Coast Guard, by law, must publish in the Federal Register notice of substantive rules adopted. To meet this obligation without imposing undue expense on the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations and security zones listed in this notice have been exempted from review under Executive Order 12866 because of their emergency nature, or limited scope and temporary effectiveness.

The following regulations were placed in effect temporarily during the period April 1, 2000 and September 30, 2000, unless otherwise indicated.

S.G. Venckus,
Chief, Office of Regulations and Administrative Law.

COTP Quarterly Report
COTP docket | Location | Type | Effective date
HOUSTON-GALVESTON 00-004 | HOUSTON SHIP CHANNEL, HOUSTON, TX | SAFETY ZONE | 07/17/2000
HOUSTON-GALVESTON 00-008 | FREEPORT CHANNEL | SAFETY ZONE | 08/20/2000
HOUSTON-GALVESTON 00-009 | DEEPWATER BERTHING OLD BRAZOS RIVER | SAFETY ZONE | 08/23/2000
HOUSTON-GALVESTON 00-010 | GULF INTRACOASTAL WATERWAY, M 357 TO 359 | SAFETY ZONE | 08/25/2000
HOUSTON-GALVESTON 00-011 | GULF OF MEXICO 3.1 MILES S. OF GALVESTON, TX | SAFETY ZONE | 09/12/2000
HUNTINGTON 00-003 | KANAWHA RIVER, M. 54.5 TO 55.8 | SAFETY ZONE | 08/14/2000
JACKSONVILLE 00-067 | INDIAN RIVER, TITUSVILLE, FL | SAFETY ZONE | 07/04/2000
JACKSONVILLE 00-068 | INTERCOASTAL WATERWAY, ORMOND BEACH, FL | SAFETY ZONE | 07/04/2000
JACKSONVILLE 00-069 | INDIAN RIVER, COCOA BEACH, FL | SAFETY ZONE | 07/04/2000
JACKSONVILLE 00-070 | ATLANTIC OCEAN, DAYTONA BEACH, FL | SAFETY ZONE | 07/04/2000
JACKSONVILLE 00-071 | INTERCOASTAL WATERWAY, MELBOURNE, FL | SAFETY ZONE | 07/04/2000
JACKSONVILLE 00-073 | ST. JOHNS RIVER, JACKSONVILLE, FL | SAFETY ZONE | 07/04/2000
JACKSONVILLE 00-074 | ST. JOHNS RIVER, ORANGE PARK, FL | SAFETY ZONE | 07/04/2000
JACKSONVILLE 00-075 | ATLANTIC OCEAN, COCOA BEACH, FL | SAFETY ZONE | 07/04/2000
LA/LB 00-005 | HUNTINGTON BEACH, CA | SAFETY ZONE | 08/20/2000
LA/LB 00-008 | LONG BEACH, CA | SAFETY ZONE | 08/13/2000
LOUISVILLE 00-017 | OHIO RIVER, M. 426.5 TO 428.5 | SAFETY ZONE | 08/05/2000
LOUISVILLE 00-018 | OHIO RIVER, M. 470 TO 471.1 | SAFETY ZONE | 08/19/2000
LOUISVILLE 00-019 | NEW ALBANY, IA | SAFETY ZONE | 09/09/2000
LOUISVILLE 00-020 | LOUISVILLE, KY | SAFETY ZONE | 09/03/2000
LOUISVILLE 00-023 | OHIO RIVER, M. 470 | SAFETY ZONE | 09/26/2000
LOUISVILLE 00-025 | BLUEGRASS IN THE PARK FIREWORKS DISPLAY | SAFETY ZONE | 08/11/2000
LOUISVILLE 00-026 | LOUISVILLE, KY | SAFETY ZONE | 09/09/2000
LOUISVILLE 00-043 | EVANSVILLE, IN | SAFETY ZONE | 07/04/2000
LOUISVILLE 00-051 | OHIO RIVER, M. 745.5 TO 746.5 | SAFETY ZONE | 07/15/2000
MEMPHIS 00-015 | MISSISSIPPI RIVER, M. 850.7 TO 852.7 | SAFETY ZONE | 08/01/2000
MEMPHIS 00-016 | MISSISSIPPI RIVER, M. 852 TO 845 | SAFETY ZONE | 08/02/2000
MEMPHIS 00-017 | MISSISSIPPI RIVER, M. 740 TO 744 | SAFETY ZONE | 09/12/2000
MEMPHIS 00-018 | MISSISSIPPI RIVER, M. 771 TO 773 | SAFETY ZONE | 09/16/2000
MIAMI 00-088 | FT. LAUDERDALE, FLORIDA | SAFETY ZONE | 09/01/2000
NEW ORLEANS 00-016 | LWR MISSISSIPPI RIVER, M. 120 TO 122 | SAFETY ZONE | 07/03/2000
NEW ORLEANS 00-017 | LWR MISSISSIPPI RIVER, M. 137 TO 139 | SAFETY ZONE | 07/03/2000
NEW ORLEANS 00-020 | LWR MISSISSIPPI RIVER, M. 174 TO 177 | SAFETY ZONE | 07/03/2000
NEW ORLEANS 00-021 | LWR MISSISSIPPI RIVER, M. 228 TO 231 | SAFETY ZONE | 07/04/2000
NEW ORLEANS 00-022 | LWR MISSISSIPPI RIVER, M. 362 TO 364 | SAFETY ZONE | 07/04/2000
NEW ORLEANS 00-023 | J. BENNETT JOHNSTON WATERWAY, M. 58.5 TO 60.5 | SAFETY ZONE | 07/06/2000
NEW ORLEANS 00-024 | J. BENNETT JOHNSTON WATERWAY, M. 58.5 TO 60.5 | SAFETY ZONE | 07/13/2000
NEW ORLEANS 00-025 | LWR MISSISSIPPI RIVER, M. 438 TO 436 | SAFETY ZONE | 09/14/2000
NEW ORLEANS 00-026 | INNER HARBOR NAVIGATION CANAL, MORRISON PIER | SAFETY ZONE | 08/05/2000
NEW ORLEANS 00-027 | LWR MISSISSIPPI RIVER, M. 165 TO M. 167 | SAFETY ZONE | 08/30/2000
NEW ORLEANS 00-028 | LWR MISSISSIPPI RIVER, M. 436 TO 438 | SAFETY ZONE | 09/19/2000
NEW ORLEANS 00-029 | LWR MISSISSIPPI RIVER, M. 348 TO 351 | SAFETY ZONE | 09/28/2000
PADUCAH 00-007 | CLINCE RIVER, M. 1, KINGSTON, TN | SAFETY ZONE | 07/04/2000
PADUCAH 00-008 | TENNESSEE RIVER, M. 646.5 TO 647.5 | SAFETY ZONE | 07/04/2000
PADUCAH 00-009 | TENNESSEE RIVER, M. 647.4 TO 648 | SAFETY ZONE | 07/02/2000
PADUCAH 00-011 | CUMBERLAND RIVER, M. 125 TO 126 | SAFETY ZONE | 07/25/2000
PADUCAH 00-012 | CUMBERLAND RIVER, M. 125 TO 126 | SAFETY ZONE | 09/09/2000
PADUCAH 00-013 | CUMBERLAND RIVER, M. 126.5 TO 128.5 | SAFETY ZONE | 09/10/2000
PADUCAH 00-014 | OHIO RIVER M. 975 TO 978 | SAFETY ZONE | 09/08/2000
PADUCAH 00-015 | LWR MISSISSIPPI RIVER, M. 921 | SAFETY ZONE | 09/12/2000
PORT ARTHUR 00-004 | SABINE-NECHES CANAL, PORT ARTHUR, TX | SAFETY ZONE | 07/04/2000
SAN DIEGO 00-008 | LAKE HAVASU, COLORADO RIVER, AZ | SAFETY ZONE | 09/30/2000
SAN FRANCISCO BAY 00-004 | SAN FRANCISCO BAY, SAN FRANCISCO, CA | SAFETY ZONE | 07/04/2000
SAN FRANCISCO BAY 00-005 | OAKLAND INNER HARBOR, OAKLAND, CA | SAFETY ZONE | 07/04/2000
SAN FRANCISCO BAY 00-006 | SAN FRANCISCO BAY, SAN FRANCISCO, CA | SAFETY ZONE | 07/04/2000
SAN JUAN 00-087 | PUERTO RICO AND THE VIRGIN ISLANDS | SAFETY ZONE | 08/22/2000
SAVANNAH 00-089 | SAVANNAH, GA | SAFETY ZONE | 09/18/2000
SOUTHEAST ALASKA 00-009 | SITKA CHANNEL, SITKA, AK | SAFETY ZONE | 07/03/2000
SOUTHEAST ALASKA 00-014 | TONGASS NARROWS, KETCHIKAN, AK | SAFETY ZONE | 08/25/2000
TAMPA 00-081 | TAMPA BAY, FL | SAFETY ZONE | 07/26/2000
TAMPA 00-093 | TAMPA BAY, FL | SAFETY ZONE | 09/16/2000

District Quarterly Report
District docket | Location | Type | Effective date
01-00-149 | FIREWORKS DISPLAY, LARCHMONT HARBOR, NY | SAFETY ZONE | 07/07/2000
01-00-151 | WESTHAVEN, CT | SAFETY ZONE | 07/03/2000
01-00-153 | HARTFORD, CT | SAFETY ZONE | 07/01/2000
01-00-156 | LYNN, MA | SAFETY ZONE | 07/01/2000
01-00-158 | DUXBURY, MA | SAFETY ZONE | 07/01/2000
01-00-161 | KINGSTON FIREWORKS, RONDOUT CREEK, NY | SAFETY ZONE | 07/02/2000
01-00-162 | ROCKAWAY INLET, NY | SAFETY ZONE | 07/02/2000
01-00-164 | MADISON, CT | SAFETY ZONE | 07/02/2000
01-00-165 | NEW HAVEN, CT | SAFETY ZONE | 07/04/2000
01-00-168 | FENWICH PIER, OLD SAYBROOK, CT | SAFETY ZONE | 07/01/2000
01-00-171 | GREENWICH, CT | SAFETY ZONE | 07/02/2000
01-00-172 | BAYLEY BEACH, ROWAYTON, CT | SAFETY ZONE | 07/02/2000
01-00-175 | FIRE ISLAND PINES, NY | SAFETY ZONE | 07/01/2000
01-00-176 | COLD SPRING HARBOR, COVE NECK, NY | SAFETY ZONE | 07/04/2000
01-00-178 | SUNKEN VESSEL JESSICA ANN, CAPE ELIZABETH, ME | SAFETY ZONE | 07/01/2000
01-00-179 | NICOLL BAY, SAYVILLE, NY | SAFETY ZONE | 07/22/2000
01-00-180 | BATH IRON WORKS, KENNEBECK RIVER, BATH, MD | SAFETY ZONE | 07/02/2000
01-00-197 | SALEM, MA | SAFETY ZONE | 08/19/2000
01-00-198 | NEWBURYPORT, MA | SAFETY ZONE | 08/05/2000
01-00-199 | GLOUCESTER, MA | SAFETY ZONE | 08/05/2000
01-00-200 | TAUNTON RIVER, FALL RIVER, MA | SAFETY ZONE | 08/12/2000
01-00-202 | BEVERLY, MA | SAFETY ZONE | 08/06/2000
01-00-207 | NEWPORT, RI | SAFETY ZONE | 08/19/2000
01-00-210 | BEVERLY, MA | SAFETY ZONE | 09/02/2000
01-00-211 | GLOUCESTER, MA | SAFETY ZONE | 09/02/2000
01-00-212 | BOSTON, MA | SAFETY ZONE | 09/03/2000
01-00-219 | VIKING SHIP SAIL 2000, NEW HAVEN, CT | SAFETY ZONE | 09/28/2000
01-00-226 | BOSTON, MA | SECURITY ZONE | 09/28/2000
01-00-230 | OIL SPILL RECOVERY, LOWER NEW YORK | SAFETY ZONE | 09/15/2000
01-00-250 | MIDDLETOWN, RI | SAFETY ZONE | 07/07/2000
05-00-025 | PATAPSCO RIVER, BALTIMORE MD | SPECIAL LOCAL | 07/02/2000
05-00-026 | CHESTER RIVER, KENT ISLAND NARROWS, MD | SPECIAL LOCAL | 07/03/2000
05-00-029 | DELAWARE RIVER, PHILADELPHIA, PA | SAFETY ZONE | 07/30/2000
05-00-034 | DELAWARE RIVER, PHILADELPHIA, PA | SAFETY ZONE | 07/27/2000
05-00-037 | DELAWARE RIVER, PHILADELPHIA, PA AND CAMDEN | SAFETY ZONE | 08/15/2000
05-00-040 | CHESTER RIVER, KENT ISLAND NARROWS, MD | SPECIAL LOCAL REG | 09/03/2000
07-00-057 | NEW HALLANDALE BEACH BLVD. (SR824 BRIDGE) | DRAWBRIDGE OPERATION | 07/13/2000
07-00-063 | HILSSBORO BOULEVARD BRIDGE, M 1050 | DRAWBRIDGE OPERATION | 07/16/2000
09-00-041 | GILLS ROCK, WI | SAFETY ZONE | 07/04/2000
09-00-042 | KEWAUNEE, WI | SAFETY ZONE | 07/14/2000
09-00-047 | LAKE MICHIGAN, CHICAGO, IL | SAFETY ZONE | 07/03/2000
09-00-048 | LAKE KALAMAZOO, SAUGATUCK, MI | SAFETY ZONE | 07/04/2000
09-00-049 | LAKE MICHIGAN, PENTWATER, MI | SAFETY ZONE | 07/03/2000
09-00-051 | LAKE MICHIGAN, FRANFORT, MI | SAFETY ZONE | 07/04/2000
09-00-052 | WHITE LAKE WHITE HALL, MI | SAFETY ZONE | 07/04/2000
09-00-053 | MILWAUKEE, WI | SAFETY ZONE | 07/03/2000
09-00-054 | LAKE ERIE, PUT-IN-BAY, OHIO | SAFETY ZONE | 07/04/2000
09-00-056 | LAKE MICHIGAN, MANISTEE, MI | SAFETY ZONE | 07/03/2000
09-00-057 | FOX RIVER, GREEN BAY, WI | SAFETY ZONE | 07/04/2000
09-00-058 | MILWAUKEE, WI | SAFETY ZONE | 07/04/2000
09-00-059 | KENOSHA, WI | SAFETY ZONE | 07/04/2000
09-00-061 | LAKE MICHIGAN, KENILWORTH, IL | SAFETY ZONE | 07/04/2000
09-00-062 | LAKE MICHIGAN, MICHIGAN CITY, IN | SAFETY ZONE | 07/09/2000
09-00-063 | WASHINGTON PARK, MICHIGAN CITY,MI | SAFETY ZONE | 07/09/2000
09-00-064 | MILWAUKEE, WI | SAFETY ZONE | 07/20/2000
09-00-066 | BAYVIEW, WI | SAFETY ZONE | 07/14/2000
09-00-067 | PORT WASHINGTON, WI | SAFETY ZONE | 07/15/2000
09-00-068 | SHEDD AQUARIUM, CHICAGO, IL | SAFETY ZONE | 07/16/2000
09-00-069 | LAKE MICHIGAN, ST. JOSEPH, MI | SAFETY ZONE | 07/15/2000
09-00-070 | MILWAUKEE, WI | SAFETY ZONE | 07/28/2000
09-00-071 | LAKE MICHIGAN, CHICAGO, IL | SAFETY ZONE | 07/29/2000
09-00-072 | LAKE KALAMAZOO, SAUGATUCK, MI | SAFETY ZONE | 07/29/2000
09-00-073 | LAKE MICHIGAN, FERRYSBURG, MI | SAFETY ZONE | 07/22/2000
09-00-074 | LAKE MICHIGAN, CHICAGO, IL | SAFETY ZONE | 07/22/2000
09-00-076 | MILWAUKEE, WI | SAFETY ZONE | 08/16/2000
09-00-077 | MILWAUKEE, WI | SAFETY ZONE | 08/18/2000
09-00-078 | MILWAUKEE, WI | SAFETY ZONE | 08/25/2000
09-00-081 | CLEVELAND HARBOR, CLEVELAND, OH | SAFETY ZONE | 07/30/2000
09-00-082 | NEW BUFFALO, MI | SAFETY ZONE | 08/05/2000
09-00-084 | LAKE MICHIGAN, PENTWATER, MI | SAFETY ZONE | 08/12/2000
09-00-085 | HAMMOMD, IN | SAFETY ZONE | 08/05/2000
09-00-086 | GRAND HAVEN, MI | SAFETY ZONE | 07/31/2000
09-00-088 | GRAND HAVEN, MI | SAFETY ZONE | 08/24/2000
09-00-089 | ALGOMA, WI | SAFETY ZONE | 08/13/2000
09-00-090 | OSHKOSH, WI | SAFETY ZONE | 09/02/2000
09-00-092 | MILWAUKEE, WI | SAFETY ZONE | 09/08/2000
09-00-096 | MUSKEGON LAKE MUSKEGON, MI | SAFETY ZONE | 08/18/2000
09-00-097 | CHICAGO, IL | SAFETY ZONE | 08/31/2000
09-00-098 | NAVY PIER, LAKE MICHIGAN, CHICAGO HARBOR, IL | SAFETY ZONE | 08/31/2000
09-00-102 | NAVY PIER, LAKE MICHIGAN, CHICAGO HARBOR, IL | SAFETY ZONE | 09/08/2000
09-00-103 | CHICAGO, IL | SAFETY ZONE | 09/14/2000
09-00-104 | AIR AND WATER SHOW, GARY, IN | SAFETY ZONE | 09/16/2000
09-00-105 | CHICAGO, IL | SAFETY ZONE | 09/16/2000
09-00-107 | MILWAUKEE, WI | SAFETY ZONE | 09/15/2000
09-00-109 | MILWAUKEE, WI | SAFETY ZONE | 09/19/2000
13-00-010 | GRAYS HARBOR, WESTPORT, WA | SAFETY ZONE | 07/04/2000
13-00-011 | COLUMBIA RIVER, VANCOUVER, WA | SAFETY ZONE | 07/04/2000
13-00-012 | COLUMBIA RIVER, ST. HELENS, OR | SAFETY ZONE | 07/04/2000
13-00-013 | WILLAMETTE RIVER, PORTLAND, OR | SAFETY ZONE | 07/04/2000
13-00-014 | COLUMBIA RIVER, KENNEWICK, WA | SAFETY ZONE | 07/04/2000
13-00-015 | COLUMBIA RIVER, CASCADE LOCKS, OR | SAFETY ZONE | 07/04/2000
13-00-017 | COLUMBIA RIVER, ARLINGTON, OR | SAFETY ZONE | 07/03/2000
13-00-018 | CHEHALIS RIVER ABERDEEN, WA | SAFETY ZONE | 07/04/2000
13-00-019 | COLUMBIA RIVER, HOOD RIVER, OR | SAFETY ZONE | 07/04/2000
13-00-020 | COLUMBIA RIVER, GRESHAM, OR | SAFETY ZONE | 07/04/2000
13-00-021 | WILLAMETTE RIVER, GLADSTONE, OR | SAFETY ZONE | 07/04/2000
13-00-023 | COLUMBIA RIVER, RAINEIR, OR | SAFETY ZONE | 07/08/2000
13-00-025 | FREEDOM FAIR AIRSHOW, COMMENCEMENT BAY, WA | SAFETY ZONE | 07/04/2000
13-00-026 | PORT OF SEATTLE, SEATTLE, WA | SECURITY ZONE | 08/02/2000
13-00-027 | LAKE WASHINGTON, WA | SAFETY ZONE | 07/20/2000
13-00-033 | COMMENCEMENT BAY, TACOMA, WA | SAFETY ZONE | 09/17/2000

Regulations Not on Apr-Jun 00 Quarterly Report
District/COTP | Location | Type | Effective date
DISTRICT REGULATIONS:
09-00-016 | MILWAUKEE, WI | SAFETY ZONE | 06/02/00
09-00-018 | MILWAUKEE, WI | SAFETY ZONE | 05/30/00
09-00-019 | MILWAUKEE, WI | SAFETY ZONE | 06/10/00
09-00-040 | KEWAUNEE, WI | SAFETY ZONE | 06/24/00
09-00-043 | MILWAUKEE, WI | SAFETY ZONE | 06/21/00
09-00-044 | MILWAUKEE, WI | SAFETY ZONE | 06/26/00
COTP REGULATIONS:
LOUISVILLE 00-052 | OHIO RIVER, M. 745.5 TO 746.5 | SAFETY ZONE | 06/26/00
NEW ORLEANS 00-019 | RED RIVER, M. 58.5 TO 60.5 | SAFETY ZONE | 06/26/00
SAN FRANCISCO BAY 00-003 | SAN FRANCISCO, CA | SAFETY ZONE | 06/30/00

[FR Doc. 00-33080 Filed 12-27-00; 8:45 am]

BILLING CODE 4910-15-M